DEPARTMENT OF HEALTH AND HUMAN SERVICES

Centers for Disease Control and Prevention

National Center for Health Statistics; Meeting

National Center for Health Statistics (NCHS), Classifications and Public Health Data Standards Staff, announces the following meeting.

Name: ICD-9-CM Coordination and Maintenance Committee meeting.

Time and Date: 9 a.m.-4 p.m., December 4-5, 2003.

Place: Centers for Medicare and Medicaid Services (CMS) Auditorium, 7500 Security Boulevard, Baltimore, Maryland.

Status: Open to the public.

Purpose: The ICD-9-CM Coordination and Maintenance (C&M) Committee will hold its final meeting of the 2003 calendar year cycle on Thursday and Friday December 4-5, 2003. The C&M meeting is a public forum for the presentation of proposed modifications to the International Classification of Diseases, Ninth-Revision, Clinical Modification.

Matters To Be Discussed: Agenda items include:

ICD-10-CM update

West Nile virus with and without encephalitis

Alpha-1 antitrypsin deficiency and other metabolic conditions

Long-term (current) use of aspirin

Multiple sclerosis

Sleep disorders

Genital prolapse

Bethesda system

Chondritis of ear

Worn out joint prosthesis

Awaiting heart transplant status

Dental expansions

Decubitus ulcers

Automatic implantable cardioverter/defibrillator (AICD) check

Spinal procedures—nucleus replacement device

Laparoscopic/Thorascopic approaches

Insertion/replacement of neurostimulator components

Axial flow left ventricular assist device

Prevention of vein graft failure

Intravascular ultrasound (IVUS)

ICD-10—Procedure classification system (ICD-10-PCS) update

Addenda

For Further Information Contact: Amy Blum, Medical Classification Specialist, Classifications and Public Health Data Standards Staff, NCHS, 3311 Toledo Road, rm. 2402, Hyattsville, Maryland 20782, telephone 301/458-4106 (diagnosis), Amy Gruber, Health Insurance Specialist, Division of Acute Care, CMS, 7500 Security Blvd., Room C4-07-07, Baltimore, Maryland 21244 telephone (410) 786-1542 (procedures).

Notice: In the interest of security, (CMS) has instituted stringent procedures for entrance into the building by non-government employees. Persons without a government I.D. will need to show a photo I.D. and sign-in at the security desk upon entering the building.

Because of increased security requirements, those who wish to attend a specific ICD-9-CM C&M meeting in the CMS auditorium must submit their name and organization for addition to the meeting visitor list. Those wishing to attend the December 4-5, 2003 meeting must submit their name and organization by November 28, 2003 for inclusion on the visitor list.

This visitor list will be maintained at the front desk of the CMS building and used by the guards to admit visitors to the meeting. Those who attended previous ICD-9-CM C&M meetings will no longer be automatically added to the visitor list. You must request inclusion of your name prior to each meeting you attend.

Send your name and organization to one of the following by November 28, 2003 in order to attend the December 4-5, 2003 meeting: Pat Brooks pbrooks1@cms.hhs.gov (410) 786-5318. Ann Fagan afagan@cms.hhs.gov (410) 786-5662. Amy Gruber agruber@cms.hhs.gov (410) 786-1542.

Notice: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: October 10, 2003.
Diane Allen,
Acting Director, Management Analysis and Services Office, Centers for Disease Control and Prevention.

[FR Doc. 03-26272 Filed 10-16-03; 8:45 am]

BILLING CODE 4160-18-P